DEPARTMENT OF ENERGY

Federal Energy Regulatory Commission

[Docket No. PR02-1-000]

Acacia Natural Gas Corporation; Notice of Petition for Rate Approval

October 23, 2001.

Take notice that on October 9, 2001, Acacia Natural Gas Corporation (Acacia) filed, pursuant to section 284.123(b)(2) of the Commission's Regulations, a petition for rate approval requesting that the Commission approve as fair and equitable a maximum rate of $0.1265 per MMBtu for interruptible transportation service, on Acacia's Bridgeport Gas Header system (Bridgeport system) under section 311 of the Natural Gas Policy Act of 1987.

Acacia states that it recently commenced interruptible section 311 transportation service on behalf of Mitchell Gas Services L.P. Acacia states that the proposed rate is designed using 90% of the design capacity of the Bridgeport system, calculated on a 100% load factor basis.

Pursuant to section 284.123(b)(2), if the Commission does not act within 150 days of the filing date, this rates will be deemed to be fair and equitable and not in excess of an amount which interstate pipelines would be permitted to charge for providing similar transportation service. The Commission may, prior to the expiration of the 150-day period, extend the time for action or institute a proceeding to afford interested parties an opportunity for written comments and for the oral presentation of views, data and arguments.

Any person desiring to participate in this rate proceeding must file a motion to intervene or protest with the Federal Energy Regulatory Commission, 888 First Street, NE., Washington, DC 20426, in accordance with rules 211 and 214 of the Commission's Rules of Practice and Procedure (18 CFR 385.211 and 385.214). All motions must be filed with the Secretary of the Commission on or before November 7, 2001. This petition for rate approval is on file with the Commission and is available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-27086 Filed 10-26-01; 8:45 am]

BILLING CODE 6717-01-P